DEPARTMENT OF COMMERCE

National Oceanic and Atmospheric Administration

RIN 0648-XF659

North Pacific Fishery Management Council; Public Meeting

AGENCY: National Marine Fisheries Service (NMFS), National Oceanic and Atmospheric Administration (NOAA), Commerce.

ACTION: Notice of public meeting.

SUMMARY: The North Pacific Fishery Management Council (Council) Electronic Monitoring Workgroup (EMWG) will hold a public meeting on September 18, 2017, 9 a.m. to 5 p.m. Pacific Time, AFSC, Traynor Room in Building 4, 7600 Sand Point Way NE., Seattle, WA.

DATES: The meeting will be held on Tuesday, September 18, 2017, from 9 a.m. to 5 p.m., Pacific Time.

ADDRESSES: The meeting will be held in the FMA Observer Training Room 1055 AFSC, 7600 Sand Point Way NE., Seattle, WA. It will also be available by teleconference at (907) 271-2896.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

1. Update on 2017 pre-implementation program;

2. Discuss 2018 EM deployment and implementation, including budget;

3. Review EM component of draft Statement of Work for observer/EM contract;

4. Review draft methodology for allocating the observer fee between EM and observers;

5. Review NMFS draft EM policy directive;

6. Research and development report; and

7. Other business and scheduling. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: August 29, 2017.
Tracey L. Thompson,
Acting Deputy Director, Office of Sustainable Fisheries, National Marine Fisheries Service.

[FR Doc. 2017-18600 Filed 8-31-17; 8:45 am]

BILLING CODE 3510-22-P